DEPARTMENT OF COMMERCE

National Oceanic and Atomspheric Administration

National Estuarine Research Reserve System; Notice of Proposed Boundary Expansion for North Carolina National Estuarine Research Reserve

AGENCY: Estuarine Reserves Division, Office of Ocean and Coastal Resource Management (OCRM), National Ocean Service (NOS), National Oceanic and Atmospheric Administration, Department of Commerce.

ACTION: Notice of Proposed Boundary Expansion for the Rachel Carson component of the North Carolina National Estuarine Research Reserve.

SUMMARY: Notice is hereby given that the Estuarine Reserves Division of OCRM is considering a request by the North Carolina Division of Coastal Management to amend the boundary of the North Carolina National Estuarine Research Reserve. The boundary change will include 1.5-acre Sand Dollar Island and just over 400 acres of state waters in the North River Channel within the Rachel Carson component of the reserve. Because both areas are currently owned by the state, no acquisition is required.

FOR FURTHER INFORMATION CONTACT: Brian Badgley, Estuarine Reserves Division (N/ORM5), National Oceanic and Atmospheric Administration, SSMC4, Silver Spring, Maryland 20910; Phone (301) 713-3155, Extension 145.

SUPPLEMENTARY INFORMATION: The North Carolina National Estuarine Research Reserve (NCNERR) was designated in 1985 pursuant to section 315 of the Coastal Zone Management Act of 1972, as amended, 16 U.S.C. 1461. The NCNERR is comprised of four components totaling 10,000 acres, including barrier islands, salt marsh and subtidal sand and mud habitats.

The North Carolina Division of Coastal Management has requested NOAA approval to amend the boundary of the Rachel Carson component of the NCNERR to include Sand Dollar Island and state waters in the North River Channel. Sand Dollar Island naturally accreted immediately adjacent to the reserve boundary approximately two years ago. Under North Carolina law, it is automatically associated with the reserve property and owned by the state. The North Carolina Division of Coastal Management currently manages the area. The island and associated salt marsh provide important nesting habitat for colonial water birds, but also has become popular among boaters for recreation. The inclusion of the island within reserve boundaries will allow the NCNERR to officially manage the area to minimize recreational impacts on the important habitats. The North River Channel divides the two major upland and salt marsh areas of the reserve. Its inclusion will create a more logical and defensible boundary, while increasing the amount of submerged habitat within the reserve for research and education purposes. The state is supportive of the inclusion of both areas within the reserve boundary. No land acquisition or deed transfer is required for this boundary expansion.

Any person wishing to comment on the proposed boundary expansion may forward written comments to Brian Badgley, Estuarine Reserves Division (N/ORM5), National Oceanic and Atmospheric Administration, 1305 East West Highway, Silver Spring, Maryland 20910. Comments must be submitted no later than September 4, 2001.

Federal Domestic Assistance Catalog Number 11.420 (Coastal Zone Management) Research Reserves.
Dated: July 13, 2001.
Ted I. Lillestolen,
Deputy Assistant Administrator for Ocean Services and Coastal Zone Management.

[FR Doc. 01-19399 Filed 8-2-01; 8:45 am]

BILLING CODE 3510-08-P